DEPARTMENT OF TRANSPORTATION

Federal Aviation Administration

[Docket No. FAA-2025-3124]

Notice of Availability, Notice of Public Comment Period, Notice of Virtual Public Meeting, and Request for Comment on the Draft Tiered Environmental Assessment for Updates to Airspace Closures for Additional Launch Trajectories and Starship Boca Chica Landings of the SpaceX Starship-Super Heavy Vehicle at the SpaceX Boca Chica Launch Site in Cameron County, Texas

AGENCY: Federal Aviation Administration (FAA), Department of Transportation (DOT).

ACTION: Notice of availability, notice of public comment period, notice of virtual public meeting, and request for comment.

SUMMARY: In accordance with the National Environmental Policy Act of 1969, as amended (NEPA) and FAA Order 1050.1G, FAA National Environmental Policy Act Implementing Procedures, the FAA is announcing the availability of and requesting comment on the draft Tiered Environmental Assessment for Updates to Airspace Closures for Additional Launch Trajectories and Starship Boca Chica Landings of the SpaceX Starship-Super Heavy Vehicle at the SpaceX Boca Chica Launch Site in Cameron County, Texas (Draft Tiered EA).

DATES: The FAA will hold a virtual public meeting on the Draft Tiered EA on October 7, 2025, from 5:00-7:00 p.m. CT. Interested parties must register to join the virtual public meeting. Registration is now available at the link in https://us02web.zoom.us/webinar/register/WN_a3uzXQcxT8OuGfynVNR8aQ, Dial-in phone number: 888-788-0099 (Toll Free), Webinar ID: 839 4907 3824, Passcode: 872427.

The public comment period for the Draft Tiered EA will close on October 20, 2025.

ADDRESSES: The Draft Tiered EA is available for public review at https://www.faa.gov/space/stakeholder_engagement/spacex_starship. Public comments can be submitted electronically to www.regulations.gov under Docket No. FAA-2025-3124, or by postal mail to Ms. Amy Hanson, FAA Environmental Protection Specialist, c/o ICF, 1902 Reston Metro Plaza Reston, VA 20190; or delivered in verbal form during the virtual public meeting.

Register for the virtual public meeting at https://us02web.zoom.us/webinar/register/WN_a3uzXQcxT8OuGfynVNR8aQ.

The Unique ID for this document is PEAX-012-12-000-1758121750.

FOR FURTHER INFORMATION CONTACT: SpaceXBocaChica@icf.com.

SUPPLEMENTARY INFORMATION: The Draft Tiered EA has been posted and comments will be received through the Federal E-Rulemaking Portal: http://www.regulations.gov. Search for FAA-2025-3124 to retrieve the docket and follow the instructions to submit a comment.

The Draft Tired EA analyzes:

• Updated operations for additional launch trajectories for Starship-Super Heavy operations at the Boca Chica Launch Site, and;

• Updated operations for Starship Return to Launch Site mission profiles for Starship-Super Heavy operations at the Boca Chica Launch Site.

The Draft EA also evaluates the potential environmental impacts associated with FAA's approval of potential temporary airspace closures.

More information on the Draft Tiered EA and virtual public meeting can be found at https://www.faa.gov/space/stakeholder_engagement/spacex_starship. If any accommodation for the virtual public meeting is needed (such as additional translation services), please submit a request by September 25, 2025, to SpaceXBocaChica@icf.com. For any media inquiries, please contact the FAA Press Office at pressoffice@faa.gov.

Before including your address, phone number, email address, or other personal identifying information in your comment, be advised that your entire comment—including your personal identifying information—may be made publicly available at any time. While you can ask the FAA in your comment to withhold from public review your personal identifying information, the FAA cannot guarantee that it will be able to do so. All comments received during the comment period will be given equal weight and be taken into consideration in the preparation of the Final Tiered EA.

Dated: September 19, 2025.
Stacey Molinich Zee,
Manager, Operations Support Branch.

[FR Doc. 2025-18411 Filed 9-22-25; 8:45 am]

BILLING CODE 4910-13-P